DEPARTMENT OF TRANSPORTATION

Federal Highway Administration

Environmental Impact Statement: Bexar County, TX

AGENCY: Federal Highway Administration (FHWA), DOT.

ACTION: Notice of Intent.

SUMMARY: Pursuant to 40 CFR 1508.22 and 43 Texas Administrative Code § 2.5 (e)(2), the Federal Highway Administration, Texas Department of Transportation (TxDOT) and Alamo Regional Mobility Authority are issuing this notice to advise the public that an Environmental Impact Statement (EIS) will be prepared for proposed improvements to Loop 1604 in San Antonio, Texas, within Bexar County limits to enhance mobility and improve safety from FM 1957 to IH 35 North, a distance of approximately 32.35 miles in Bexar County Texas. Areas within the city of San Antonio are included in the project study area.

FOR FURTHER INFORMATION CONTACT: Mr. Salvador Deocampo, District Engineer, District A, Federal Highway Administration, Texas Division, 300 East 8th Street, Room 826, Austin, Texas 78701. Phone: 512-536-5950.

SUPPLEMENTARY INFORMATION: The Federal Highway Administration in cooperation with the Texas Department of Transportation and the Alamo Regional Mobility Authority will prepare an EIS for transportation improvements to Loop 1604 from FM 1957 to IH 35 North, a distance of approximately 32.35 miles. The current Loop 1604 facility consists of a four-lane divided, partial access-controlled roadway from FM 1957 to State Highway (SH) 16 and a four-lane expressway with full access-controlled through travel lanes and parallel partially access-controlled lanes that interface among the through travel lanes, local land use, and connecting roadways from SH 16 to IH 35 North. Growth, development, and traffic congestion continue to increase along Loop 1604 from FM 1957 to IH 35 North. The project is needed as Loop 1604 does not currently meet present and future growth, development, and traffic demands creating inefficiencies in facility safety, mobility, and operation. The proposed purpose of the project is to improve safety within the Loop 1604 corridor, enhance mobility and operational efficiency, and to deliver and implement the benefits in an expeditious manner.

The currently proposed project, as included in the San Antonio-Bexar County Metropolitan Planning Organization's Mobility 2030 Plan, is an added capacity project to add frontage roads and additional main lanes as follows: From SH 151 to 1.2 miles south of SH 16, expand to a 6 lane toll expressway with non-toll frontage roads and from 1.2 miles south of SH 16 to IH 35, expand the expressway lanes from 4 to 6 or 8 lanes with the new lanes being toll lanes. The Loop 1604 EIS will evaluate build and no-build alternatives, including those in the Mobility 2030 Plan. In addition to the build and no-build alternatives, Transportation System Management (TSM), Transportation Demand Management (TDM), transit, and tolled and non-tolled alternatives will also be considered. The EIS will study potential impacts from construction and routine operation of the proposed roadway including, but not limited to, the following: transportation impacts (construction detours, construction traffic, mobility improvements), air and noise impacts from construction equipment and operation of the facilities, water quality impacts from construction area and roadway storm water runoff, impacts to waters of the United States, impacts to historic and archeological resources, impacts to floodplain, socio-economic resources (including Environmental Justice and Limited English Proficiency population), indirect and cumulative impacts, land use, vegetation, wildlife, impacts to and/or potential displacement of residences and businesses, and aesthetic and visual resources.

Anticipated federal permits, pending selection of alternatives and field surveys may include, but are not limited to, the following: Section 106 (National Historic Preservation Act), Section 401/404 (Clean Water Act), and Section 7 (Endangered Species Act). A Project Coordination Plan will be provided in accordance with Public Law 109-59, Safe, Accountable, Flexible, Efficient Transportation Equity Act: A Legacy for Users (SAFETEA-LU), Title VI, Section 6002, Efficient Environmental Reviews for Project Decision Making, August 10, 2005, to facilitate and document the lead agencies; structure interaction with the public and other agencies and to inform the public and other agencies of how the coordination will be accomplished. The Project Coordination Plan will promote early and continuous involvement from stakeholders, agencies, and the public as well as describe the proposed project, the roles of the agencies and the public, the project need and purpose, schedule, level of detail for alternatives analysis, methodologies to be used in the environmental analysis, and the proposed process for coordination and communication.

This Project Coordination Plan is designed to be part of a flexible and adaptable process. The Project Coordination Plan will be available for public review, inputs, and comments at public meetings, including scoping meetings and hearings held, in accordance with the National Environmental Policy Act (NEPA) through the evaluation process, and upon request at the Alamo Regional Mobility Authority's office. Pursuant to 23 U.S.C. Chapter 1, Subchapter 1, Section 139 of SAFETEA-LU, cooperating agencies, participating agencies, and the public will be given an opportunity for input in the development of the project. The first of a series of public scoping meetings, conducted in an open house format, is planned to be held in the fall of 2009. This preliminary scoping meeting will be the first in a series of meetings to solicit public comments throughout the planning process on the proposed action as part of the NEPA process.

The scoping meetings will provide opportunities for participating agencies, cooperating agencies, and the public to be involved in defining the need and purpose for the proposed project and to assist in determining the range of alternatives for consideration in the EIS and alternative evaluation methodologies. As part of the scoping process, correspondence describing the proposed action and soliciting comments to be considered during the scoping process will be sent to the appropriate federal, state, and local agencies, and to organizations and individuals who have previously expressed or are known to have an interest in the project. Public scoping meetings and public hearings will be held during appropriate phases of the project development process. Public notices will be given stating the date, time, and location of each. The Draft EIS will be available for public and agency review and comment prior to a public hearing.

To ensure that the full range of issues related to this proposed action are addressed and all significant issues identified, comments and suggestions are invited from all interested parties. Comments or questions concerning this proposed action and the EIS should be directed to FHWA at the address provided. A proposed schedule for completion of the environmental review process is not available at this time; however, it will become accessible for public review at a future date.

(Catalog of Federal Domestic Assistance Program Number 20.205, Highway Planning and Construction. The regulations implementing Executive Order 12372 regarding intergovernmental consultation on federal programs and activities apply to this program.)

Issued on: July 27, 2009.
Salvador Deocampo,
District Engineer.

[FR Doc. E9-18292 Filed 7-30-09; 8:45 am]

BILLING CODE 4910-22-P